DEPARTMENT OF ENERGY

Federal Energy Regulatory Commission

[Project No. 10482-122]

Eagle Creek Hydro Power, LLC, Eagle Creek Water Resources, LLC, Eagle Creek Land Resources, LLC; Notice of Application Tendered for Filing With The Commission and Establishing Procedural Schedule for Licensing and Deadline for Submission of Final Amendments

Take notice that the following hydroelectric application has been filed with the Commission and is available for public inspection.

a. Type of Application: New Major License.

b. Project No.: 10482-122.

c. Date Filed: March 31, 2020.

d. Applicant: Eagle Creek Hydro Power, LLC, Eagle Creek Water Resources, LLC, and Eagle Creek Land Resources, LLC (collectively referred to as Eagle Creek).

e. Name of Project: Swinging Bridge Hydroelectric Project (Swinging Bridge Project).

f. Location: The existing project is located on the Mongaup River and Black Lake Creek in Sullivan County, New York. The project does not occupy federal lands.

g. Filed Pursuant to: Federal Power Act, 16 U.S.C. 791(a)-825(r).

h. Applicant Contact: Mr. Robert Gates, Senior Vice President—Regulatory, Eagle Creek Renewable Energy, LLC., 116 N State Street, PO Box 167, Neshkoro, WI 54960-0167; (973) 998-8400 or bob.gates@eaglecreekre.com.

i. FERC Contact: Nicholas Ettema at (312) 596-4447 or email at nicholas.ettema@ferc.gov.

j. This application is not ready for environmental analysis at this time.

k. Project Description: The Swinging Bridge Project includes the Toronto Development, the Cliff Lake Development, and the Swinging Bridge Development. Water stored in Toronto Reservoir is released into Cliff Lake Reservoir, which is connected to Swinging Bridge Reservoir via a tunnel.

The Toronto Development consists of: (1) A reservoir with a gross storage capacity of 27,064 acre-feet and a surface area of 843 acres; (2) a 1,620-foot-long by 103-foot-high earth-fill dam with a 25-foot-wide crest at elevation 1,230 feet National Geodetic Vertical Datum of 1929 (NGVD29); (3) a 700-foot-long by 50-foot-wide concrete and rock side-channel spillway equipped with 5-foot-high by 50-foot-wide pin-type flashboards; (4) a 17.5-foot-wide by 11.5-foot-long gated concrete tower; (5) an upper 4-foot-wide by 5-foot-high gate and a lower 3-foot-wide by 5-foot-high gate; and 6) a 565-foot-long by 8-foot-wide by 8-foot-high horseshoe-shaped concrete conduit.

The Cliff Lake Development consists of: (1) A reservoir with a gross storage capacity of 3,200 acre-feet and a surface area of 183 acres; (2) a 95-foot-long by 20-foot-wide by 36-foot-high east earthen embankment; (3) a 150-foot-long by 44-foot-wide by 36-foot-high concrete non-overflow section; (4) a 100-foot-long by 5-foot-wide by 26-foot-high concrete overflow spillway section with 13-inch-high flashboards; (5) a 270-foot-long by 20-foot-wide by 50-foot-high west earthen embankment; (6) a 5.3-footwide, 6.7-foot-high, 2,100-foot-long horseshoe-shaped tunnel; (7) a 4-foot by 4-foot sluice gate; and (8) a 5-foot-wide by 5-foot-high lift gate.

The Swinging Bridge Development consists of: (1) A reservoir with a gross storage capacity of 35,925 acre-feet and a surface area of 980 acres; (2) a 965-foot-long by 135-foot-high earth-fill dam with a 25-foot-wide crest at elevation 1,080 feet NGVD29; (3) a 750-foot-long by 250-foot-wide concrete side channel spillway; (4) a 5-foot-high by 122.5-foot-wide gate section and five motor driven 22.5-foot-wide by 5-foot-high vertical-lift timber gates; (5) a 692-foot-long, 10-foot-diameter steel lined concrete penstock (which has been retired in place); (6) 784-foot-long, 9.75-foot-diameter concrete-lined tunnel connected to a 188-foot-long, 10-foot-diameter all-steel penstock; (7) a 10-foot-long, 4-foot-diameter penstock; (8) a 30-foot-diameter steel surge tank; (9) a 48-foot-wide by 33-foot-long by 35-foot, 8-inch-high brick and steel Unit 2 powerhouse containing one 6.75 megawatt (MW) generating unit; (10) a 30-foot-long by 30-foot-wide by 20-foot-high concrete and steel Unit 3 powerhouse containing one 1.1 MW generating unit; (11) one 25-foot-wide by 75-foot-long tailrace and one 6-foot-wide by 20-foot-long tailrace; (12) a 150-foot-long, 2.3 kilovolt (kV) transmission line and a 250-foot-long, 4 kV transmission line. The project generates an average of 11,639 megawatt-hours annually (Unit 2 only). Eagle Creek proposes to continue to operate the project in a peaking mode.

l. A copy of the application is available for review on the Commission's website at http://www.ferc.gov using the “eLibrary” link. Enter the docket number excluding the last three digits in the docket number field to access the document. At this time, the Commission has suspended access to the Commission's Public Reference Room due to the Proclamation on Declaring a National Emergency Concerning the Novel Coronavirus Disease (COVID-19) Outbreak, issued by the President on March 13, 2020. For assistance, please contact FERC Online Support at FERCOnlineSupport@ferc.gov, (866) 208-3676 (toll free), or (202) 502-8659 (TTY).

m. You may also register online at http://www.ferc.gov/docs-filing/esubscription.asp to be notified via email of new filings and issuances related to this or other pending projects. For assistance, contact FERC Online Support.

n. Procedural Schedule: The application will be processed according to the following preliminary schedule. Revisions to the schedule may be made as appropriate.

Milestone | Target date
Notice of Acceptance/Notice of Ready for Environmental Analysis | July 2020.
Filing of recommendations, preliminary terms and conditions, and fishway prescriptions | November 2020
Commission issues Environmental Assessment (EA) | May 2021.
Comments on EA | June 2021.
Modified terms and conditions | August 2021.

o. Final amendments to the application must be filed with the Commission no later than 30 days from the issuance date of the notice of ready for environmental analysis.

Dated: April 8, 2020.
Kimberly D. Bose,
Secretary.

[FR Doc. 2020-07809 Filed 4-13-20; 8:45 am]

BILLING CODE 6717-01-P